DEPARTMENT OF TRANSPORTATION

Federal Aviation Administration

Notice of Adoption of the U.S. Air Force Final Environmental Impact Statement and Approval of the Federal Aviation Administration Record of Decision for the New Mexico Training Range Initiative (NMTRI)

AGENCY: Federal Aviation Administration (FAA), DOT.

ACTION: Notice of Adoption of the U.S. Air Force (USAF) Final Environmental Impact Statement (FEIS) and Approval of the FAA Record of Decision (ROD).

SUMMARY: The FAA is announcing its Adoption of the United States Air Force (USAF) Final Environmental Impact Statement (FEIS) for the New Mexico Training Range Initiative and approval of the FAA Record of Decision (ROD). The New Mexico Training Range Initiative (NMTRI) is the USAF initiative to create airspace that allows mainly F-16 and aircrews to receive much needed realistic combat training while maximizing their training time. NMTRI includes the Pecos MOA complex.

DATES: Effective Date: May 7, 2007.

ADDRESSES: Federal Aviation Administration, Central Services Area, System Support Group, 2601 Meacham Blvd., Fort Worth, TX 76137.

FOR FURTHER INFORMATION CONTACT: Ms. Nan Terry, Federal Aviation Administration, Central Services Area, System Support Group, 2601 Meacham Blvd., Fort Worth, Texas 76137, (817) 222-5594.

SUPPLEMENTARY INFORMATION: The USAF, lead agency for NMTRI, published availability of the Final EIS on October 20, 2006 in the Federal Register (Volume 71, Number 203, Pages 61967-61968), in accordance with the National Environmental Policy Act (NEPA) as amended. The determinations on the project are outlined in the FAA's ROD, which was approved on May 4, 2007.

For copies of the USAF Final Environmental Impact Statement, contact: Ms. Sheryl Parker at (757) 764-9334. A copy of the FAA Adoption and Record of Decision can be obtained by contacting Ms. Nan Terry in the For Further Information section above.

Issued in Washington, DC, or May 7, 2007.
Edith V. Parish,
Acting Manager, Environmental Programs Group, System Operations Airspace & Aeronautical Information Management, Air Traffic Organization.

[FR Doc. 07-2393 Filed 5-15-07; 8:45 am]

BILLING CODE 4910-13-M